DEPARTMENT OF ENERGY

Energy Information Administration

Agency Information Collection Activities: Submission for OMB Review; Comment Request; Correction

AGENCY: Energy Information Administration (EIA), Department of Energy (DOE).

ACTION: Agency Information Collection Activities: Submission for OMB Review; Comment Request; Correction.

SUMMARY: This notice corrects a document published in the Federal Register on October 22, 2003 (68 FR 60342) FR Doc. No. 03-26652. The EIA submitted the Supplemental Electric Power Program Survey to the Office of Management and Budget (OMB) for review under section 3507(h)(1) of the Paperwork Reduction Act of 1995 (Pub. L. 104-13) (44 U.S.C. 3501 et seq). Instead of a review and three-year extension, the request is for a revision to three surveys: Forms EIA-826, 861, and 906, and the creation of a fourth, EIA-920. The proposed changes to the Form EIA-826 and Form EIA-861 are identical. The proposed changes are intended to eliminate reporting of data under an industry sector category of “other” which has proven to be too vague to be useful for analytical purposes, and to collect more specific data on electricity use for transportation. The changes to the Form EIA-906 are intended to facilitate data collection from combined heat and power plants, and to improve the overall quality of EIA's data on power plants. The Form EIA-906 will split into two forms, with the new Form EIA-920, “Combined Heat and Power (CHP) Plant Report,” designed for the specific purpose of collecting data from CHP facilities. Also, in “Supplementary Information,” numeral “4.” should say, “Revision,” not “Three-year extension and revision.”

DATES: Comments are to be filed by November 21, 2003. If you anticipate that you will be submitting comments but find it difficult to do so within that period, you should contact the OMB Desk Officer for DOE listed below as soon as possible.

ADDRESSES: Send comments to Bill Nickerson, OMB Desk Officer for DOE, Office of Information and Regulatory Affairs, Office of Management and Budget. To ensure receipt of the comments by the due date, submission by Fax (202) 395-7285 or e-mail (William_Nickerson@omb.eop.gov) is recommended. The mailing address is 726 Jackson Place, NW., Washington, DC. 20503. The OMB DOE Desk Officer may be telephoned at (202) 395-7151. (A copy of your comments should also be provided to EIA's Statistics and Methods Group at the address below.)

FOR FURTHER INFORMATION CONTACT: Requests for additional information should be directed to Grace Sutherland. To ensure receipt of the comments by the due date, submission by Fax (202) 287-1705 or e-mail (grace.sutherland@eia.doe.gov) is recommended. The mailing address is Statistics and Methods Group (EI-70), Forrestal Building, U.S. Department of Energy, Washington, DC 20585-0670. Ms. Sutherland may be contacted by telephone at (202) 287-1712.

Issued in Washington, DC, October 24, 2003.
Jay H. Casselberry,
Agency Clearance Officer, Statistics and Methods Group, Energy Information Administration.

[FR Doc. 03-27230 Filed 10-28-03; 8:45 am]

BILLING CODE 6450-01-P